DEPARTMENT OF THE INTERIOR

National Park Service

[NPS-WASO-NAGPRA-NPS0027713; PPWOCRADN0-PCU00RP14.R50000]

Notice of Inventory Completion: Fowler Museum at University of California Los Angeles, Los Angeles, CA

AGENCY: National Park Service, Interior.

ACTION: Notice.

SUMMARY: The Fowler Museum at University of California Los Angeles (UCLA) has completed an inventory of human remains, in consultation with the appropriate Indian Tribes or Native Hawaiian organizations, and has determined that there is a cultural affiliation between the human remains and present-day Indian Tribes or Native Hawaiian organizations. Lineal descendants or representatives of any Indian tribe or Native Hawaiian organization not identified in this notice that wish to request transfer of control of these human remains should submit a written request to the Fowler Museum at UCLA. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Fowler Museum at UCLA at the address in this notice by June 6, 2019.

ADDRESSES: Wendy G. Teeter, Ph.D., Fowler Museum at UCLA, Box 951549, Los Angeles, CA 90095-1549, telephone (310) 825-1864, email wteeter@arts.ucla.edu.

SUPPLEMENTARY INFORMATION: Notice is here given in accordance with the Native American Graves Protection and Repatriation Act (NAGPRA), 25 U.S.C. 3003, of the completion of an inventory of human remains under the control of the Fowler Museum at University of California Los Angeles, Los Angeles, CA. The human remains were removed from site CA-INY-3826 in Inyo County, CA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Fowler Museum professional staff in consultation with representatives of Lone Pine Paiute-Shoshone Tribe (previously listed as the Paiute-Shoshone Indians of the Lone Pine Community of the Lone Pine Reservation, California) and the Timbisha Shoshone Tribe (previously listed as the Death Valley Timbi-sha Shoshone Tribe and the Death Valley Timbi-Sha Shoshone Band of California), hereafter referred to as “The Tribes.”

History and Description of the Remains

In May 1991, human remains representing, at minimum, one individual were removed from CA-INY-3826 (Pagunda) in Inyo County, CA. This collection was excavated by George Gumerman IV as part of a UCLA Archaeology Survey project. It was taken with him for analysis to Northern Arizona University, where he taught, and was transferred to the Fowler Museum at UCLA in 2017. Radiocarbon dates from the site provide a range from A.D. 1140 to 1370, although the site is recorded in the late 1800s as an occupied village by Shoshone people. No known individuals were identified. No associated funerary objects are present.

Pagunda is an ethnographically documented village near Little Lake. During 1870, it was occupied primarily by Western Shoshone people (approximately 50-70). Culturally, the archeological materials recovered from the site are consistent for the Owens Valley Western Shoshone people who continue to live in the region. Both the Lone Paiute Shoshone Tribe and the Timbisha Shoshone Tribe of Death Valley include descendants from this village.

Determinations Made by the Fowler Museum at University of California Los Angeles

Officials of the Fowler Museum at University of California Los Angeles have determined that:

• Pursuant to 25 U.S.C. 3001(9), the human remains described in this notice represent the physical remains of one individual of Native American ancestry.

• Pursuant to 25 U.S.C. 3001(2), there is a relationship of shared group identity that can be reasonably traced between the Native American human remains and The Tribes.

Additional Requestors and Disposition

Lineal descendants or representatives of any Indian Tribe or Native Hawaiian organization not identified in this notice that wish to request transfer of control of these human remains should submit a written request with information in support of the request to Wendy G. Teeter, Ph.D., Fowler Museum at UCLA, Box 951549, Los Angeles, CA 90095-1549, telephone (310) 825-1864, email wteeter@arts.ucla.edu, by June 6, 2019. After that date, if no additional requestors have come forward, transfer of control of the human remains to The Tribes may proceed.

The Fowler Museum at UCLA is responsible for notifying The Tribes that this notice has been published.

Dated: April 16, 2019.
Melanie O'Brien,
Manager, National NAGPRA Program.

[FR Doc. 2019-09304 Filed 5-6-19; 8:45 am]

BILLING CODE 4312-52-P